DEPARTMENT OF ENERGY

Federal Energy Regulatory Commission

Combined Notice of Filings #1

Take notice that the Commission received the following electric corporate filings:

Docket Numbers: EC21-110-000.

Applicants: Hatch Solar Energy Center I, LLC, High Winds, LLC, Oliver Wind III, LLC, Osborn Wind Energy, LLC, NEP US SellCo, LLC, NEP US SellCo II, LLC, NextEra Energy Partners Acquisitions, LLC.

Description: Application for Authorization Under Section 203 of the Federal Power Act of Hatch Solar Energy Center I LLC, et al.

Filed Date: 7/30/21.

Accession Number: 20210730-5305.

Comments Due: 5 p.m. ET 8/20/21.

Take notice that the Commission received the following electric rate filings:

Docket Numbers: ER18-1587-001.

Applicants: Tyr Energy, LLC.

Description: Compliance filing: Notification of Change in Status to be effective 10/4/2021.

Filed Date: 8/2/21.

Accession Number: 20210802-5104.

Comments Due: 5 p.m. ET 8/23/21.

Docket Numbers: ER20-807-001; ER20-2176-001; ER20-2177-001.

Applicants: LA3 West Baton Rouge, LLC, Helios 5 MT, LLC, Ruff Solar LLC.

Description: Notice of Change in Status of Ruff Solar LLC, et al.

Filed Date: 8/2/21.

Accession Number: 20210802-5124.

Comments Due: 5 p.m. ET 8/23/21.

Docket Numbers: ER21-2593-000.

Applicants: California Independent System Operator Corporation.

Description: § 205(d) Rate Filing: 2021-08-03 EIM Baseline Schedules to be effective 12/31/9998.

Filed Date: 8/3/21.

Accession Number: 20210803-5036.

Comments Due: 5 p.m. ET 8/24/21.

Docket Numbers: ER21-2594-000.

Applicants: Alabama Power Company.

Description: Tariff Cancellation: Tri-State II Solar Project LGIA Termination Filing to be effective 8/3/2021.

Filed Date: 8/3/21.

Accession Number: 20210803-5054.

Comments Due: 5 p.m. ET 8/24/21.

Docket Numbers: ER21-2595-000.

Applicants: Alabama Power Company.

Description: § 205(d) Rate Filing: Paisley Solar Energy (Washington Solar) LGIA Filing to be effective 7/20/2021.

Filed Date: 8/3/21.

Accession Number: 20210803-5055.

Comments Due: 5 p.m. ET 8/24/21.

Docket Numbers: ER21-2596-000.

Applicants: Alabama Power Company.

Description: § 205(d) Rate Filing: Morven Solar LGIA Filing to be effective 7/20/2021.

Filed Date: 8/3/21.

Accession Number: 20210803-5056.

Comments Due: 5 p.m. ET 8/24/21.

Docket Numbers: ER21-2597-000.

Applicants: Rockhaven Wind Project, LLC.

Description: Baseline eTariff Filing: Rockhaven Wind Project, LLC MBR Tariff to be effective 8/4/2021.

Filed Date: 8/3/21.

Accession Number: 20210803-5058.

Comments Due: 5 p.m. ET 8/24/21.

Docket Numbers: ER21-2598-000.

Applicants: NorthWestern Corporation.

Description: NorthWestern Corporation submits Average System Cost Filing for Sales of Electric Power to the Bonneville Power Administration, FY 2022-2023.

Filed Date: 8/3/21.

Accession Number: 20210803-5062.

Comments Due: 5 p.m. ET 8/24/21.

Docket Numbers: ER21-2599-000.

Applicants: Alabama Power Company.

Description: § 205(d) Rate Filing: Marble Solar Energy (Monroe Solar) LGIA Filing to be effective 7/20/2021.

Filed Date: 8/3/21.

Accession Number: 20210803-5063.

Comments Due: 5 p.m. ET 8/24/21.

Docket Numbers: ER21-2600-000.

Applicants: Southwest Power Pool, Inc.

Description: § 205(d) Rate Filing: L and O Power Cooperative Formula Rate to be effective 10/1/2021.

Filed Date: 8/3/21.

Accession Number: 20210803-5064.

Comments Due: 5 p.m. ET 8/24/21.

Docket Numbers: ER21-2601-000.

Applicants: Midcontinent Independent System Operator, Inc., American Transmission Company LLC.

Description: § 205(d) Rate Filing: 2021-08-03_ATC Regulatory Liability Filing to be effective 1/1/2022.

Filed Date: 8/3/21.

Accession Number: 20210803-5067.

Comments Due: 5 p.m. ET 8/24/21.

Docket Numbers: ER21-2602-000.

Applicants: Midcontinent Independent System Operator, Inc., Otter Tail Power Company.

Description: § 205(d) Rate Filing: 2021-08-03_SA 3679 OTP-EDF Renewables E&P (J1456) to be effective 7/29/2021.

Filed Date: 8/3/21.

Accession Number: 20210803-5070.

Comments Due: 5 p.m. ET 8/24/21.

Docket Numbers: ER21-2603-000.

Applicants: Tri-State Generation and Transmission Association, Inc.

Description: § 205(d) Rate Filing: Initial Filing of Rate Schedule FERC No. 334 to be effective 8/4/2021.

Filed Date: 8/3/21.

Accession Number: 20210803-5076.

Comments Due: 5 p.m. ET 8/24/21.

Docket Numbers: ER21-2604-000.

Applicants: Tri-State Generation and Transmission Association, Inc.

Description: Tariff Cancellation: Notice of Cancellation of Rate Schedule FERC No. 311 to be effective 8/4/2021.

Filed Date: 8/3/21.

Accession Number: 20210803-5079.

Comments Due: 5 p.m. ET 8/24/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 3, 2021.
Debbie-Anne A. Reese,
Deputy Secretary.

[FR Doc. 2021-16921 Filed 8-6-21; 8:45 am]

BILLING CODE 6717-01-P